SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: May 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Approvals By Rule—Issued Under 18 CFR 806.22(f)

1. RENEWAL—Coterra Energy Inc.; Pad ID: Ely P1; ABR-20090546.R3; Dimock Township, Susquehanna County, Pa.; Consumptive Use of Up to 5.0000 mgd; Approval Date: May 1, 2025.

2. RENEWAL—Expand Operating LLC; Pad ID: Hardic; ABR-202004005.R1; Rush Township, Susquehanna County, Pa.; Consumptive Use of Up to 7.5000 mgd; Approval Date: May 5, 2025.

3. RENEWAL—Expand Operating LLC; Pad ID: Pierson 1; ABR-202004001.R1; Rush Township, Susquehanna County, Pa.; Consumptive Use of Up to 7.5000 mgd; Approval Date: May 5, 2025.

4. RENEWAL—Coterra Energy Inc.; Pad ID: ChambersO P1; ABR-201504004.R2; Harford Township, Susquehanna County, Pa.; Consumptive Use of Up to 5.0000 mgd; Approval Date: May 20, 2025.

5. RENEWAL—Coterra Energy Inc.; Pad ID: Depaola P1; ABR-20100343.R3; Dimock Township, Susquehanna County, Pa.; Consumptive Use of Up to 5.0000 mgd; Approval Date: May 20, 2025.

6. RENEWAL—EXCO Resources (PA), LLC; Pad ID: Kensinger 3H Drilling Pad #1; ABR-20100205.R3; Penn Township, Lycoming County, Pa.; Consumptive Use of Up to 8.0000 mgd; Approval Date: May 20, 2025.

7. RENEWAL—Expand Operating LLC; Pad ID: Kalinowski; ABR-20100332.R3; West Burlington Township, Bradford County, Pa.; Consumptive Use of Up to 7.5000 mgd; Approval Date: May 20, 2025.

8. RENEWAL—Expand Operating LLC; Pad ID: Leaman; ABR-20100342.R3; West Burlington Township, Bradford County, Pa.; Consumptive Use of Up to 7.5000 mgd; Approval Date: May 20, 2025.

9. RENEWAL—Expand Operating LLC; Pad ID: LU-10 ELLY MAY—PAD; ABR-202005001.R1; Cogan House Township, Lycoming County, Pa.; Consumptive Use of Up to 7.5000 mgd; Approval Date: May 20, 2025.

10. RENEWAL—Expand Operating LLC; Pad ID: NR-24 BUCKHORN-PAD; ABR-201503004.R2; Oakland Township, Susquehanna County, Pa.; Consumptive Use of Up to 7.5000 mgd; Approval Date: May 20, 2025.

11. RENEWAL—Expand Operating LLC; Pad ID: Potter; ABR-20100401.R3; Terry Township, Bradford County, Pa.; Consumptive Use of Up to 7.5000 mgd; Approval Date: May 20, 2025.

12. RENEWAL—Expand Operating LLC; Pad ID: Rosalie; ABR-20100348.R3; Windham Township, Wyoming County, Pa.; Consumptive Use of Up to 7.5000 mgd; Approval Date: May 20, 2025.

13. RENEWAL—Expand Operating LLC; Pad ID: Sechrist Drilling Pad #1; ABR-20100337.R3; Canton Township, Bradford County, Pa.; Consumptive Use of Up to 7.5000 mgd; Approval Date: May 20, 2025.

14. RENEWAL—Repsol Oil & Gas USA, LLC; Pad ID: DCNR 587 (02 006); ABR-20100355.R3; Ward Township, Tioga County, Pa.; Consumptive Use of Up to 6.0000 mgd; Approval Date: May 20, 2025.

15. RENEWAL—Repsol Oil & Gas USA, LLC; Pad ID: DCNR 587 (02 014); ABR-20100309.R3; Ward Township, Tioga County, Pa.; Consumptive Use of Up to 6.0000 mgd; Approval Date: May 20, 2025.

16. RENEWAL—Repsol Oil & Gas USA, LLC; Pad ID: MORETZ (03 036) J; ABR-20100347.R3; Wells Township, Bradford County, Pa.; Consumptive Use of Up to 6.0000 mgd; Approval Date: May 20, 2025.

17. RENEWAL—Repsol Oil & Gas USA, LLC; Pad ID: ZIEGLER (03 001) E; ABR-20100424.R3; Columbia Township, Bradford County, Pa.; Consumptive Use of Up to 6.0000 mgd; Approval Date: May 20, 2025.

18. RENEWAL—S.T.L. Resources, LLC; Pad ID: State 822 Pad; ABR-202005003.R1; Gaines Township, Tioga County, Pa.; Consumptive Use of Up to 4.9990 mgd; Approval Date: May 20, 2025.

19. RENEWAL—XTO Energy Inc.; Pad ID: Dietterick; ABR-20100315.R3; Jordan Township, Lycoming County, Pa.; Consumptive Use of Up to 4.0000 mgd; Approval Date: May 20, 2025.

20. RENEWAL—Coterra Energy Inc.; Pad ID: BlaisureJe P1; ABR-20100431.R3; Dimock Township, Susquehanna County, Pa.; Consumptive Use of Up to 5.0000 mgd; Approval Date: May 30, 2025.

21. RENEWAL—Coterra Energy Inc.; Pad ID: BlaisureJo P1; ABR-20100325.R3; Jessup Township, Susquehanna County, Pa.; Consumptive Use of Up to 5.0000 mgd; Approval Date: May 30, 2025.

22. RENEWAL—Coterra Energy Inc.; Pad ID: KelleyP P1; ABR-20100310.R3; Dimock Township, Susquehanna County, Pa.; Consumptive Use of Up to 5.0000 mgd; Approval Date: May 30, 2025.

23. RENEWAL—Expand Operating LLC; Pad ID: Amburke; ABR-20100438.R3; Auburn Township, Susquehanna County, Pa.; Consumptive Use of Up to 7.5000 mgd; Approval Date: May 30, 2025.

24. RENEWAL—Expand Operating LLC; Pad ID: Angie; ABR-20100441.R3; Auburn Township, Susquehanna County, Pa.; Consumptive Use of Up to 7.5000 mgd; Approval Date: May 30, 2025.

25. RENEWAL—Expand Operating LLC; Pad ID: Ballibay; ABR-20100409.R3; Herrick Township, Bradford County, Pa.; Consumptive Use of Up to 7.5000 mgd; Approval Date: May 30, 2025.

26. RENEWAL—Expand Operating LLC; Pad ID: Cahill Realty Business Unit Pad; ABR-202005005.R1; Overton Township, Bradford County, Pa.; Consumptive Use of Up to 7.5000 mgd; Approval Date: May 30, 2025.

27. RENEWAL—Expand Operating LLC; Pad ID: Everbreeze; ABR-20100408.R3; Troy Township, Bradford County, Pa.; Consumptive Use of Up to 7.5000 mgd; Approval Date: May 30, 2025.

28. RENEWAL—Expand Operating LLC; Pad ID: Kingsley Drilling Pad #1; ABR-20100336.R3; Monroe Township, Bradford County, Pa.; Consumptive Use of Up to 7.5000 mgd; Approval Date: May 30, 2025.

29. RENEWAL—Expand Operating LLC; Pad ID: Koromlan; ABR-20100421.R3; Auburn Township, Susquehanna County, Pa.; Consumptive Use of Up to 7.5000 mgd; Approval Date: May 30, 2025.

30. RENEWAL—Expand Operating LLC; Pad ID: Oliver Drilling Pad #1; ABR-20100425.R3; Springville Township, Susquehanna County, Pa.; Consumptive Use of Up to 7.5000 mgd; Approval Date: May 30, 2025.

31. RENEWAL—Expand Operating LLC; Pad ID: Pauliny; ABR-20100508.R3; Terry Township, Bradford County, Pa.; Consumptive Use of Up to 7.5000 mgd; Approval Date: May 30, 2025.

32. RENEWAL—Iron City Wells LLC; Pad ID: Hegarty (CC-04) Pad; ABR-201107013.R2; Beccaria Township, Clearfield County, Pa.; Consumptive Use of Up to 1.0000 mgd; Approval Date: May 30, 2025.

33. RENEWAL—Seneca Resources Company, LLC; Pad ID: CRV Pad C09-D; ABR-201504001.R2; Shippen Township, Cameron County, Pa.; Consumptive Use of Up to 4.0000 mgd; Approval Date: May 30, 2025.

34. RENEWAL—Seneca Resources Company, LLC; Pad ID: Cummings 823; ABR-20100350.R3; Chatham Township, Tioga County, Pa.; Consumptive Use of Up to 4.0000 mgd; Approval Date: May 30, 2025.

35. RENEWAL—Seneca Resources Company, LLC; Pad ID: Halteman 611; ABR-20100406.R3; Delmar Township, Tioga County, Pa.; Consumptive Use of Up to 4.0000 mgd; Approval Date: May 30, 2025.

36. RENEWAL—Seneca Resources Company, LLC; Pad ID: Parthemer 284; ABR-20100311.R3; Charleston Township, Tioga County, Pa.; Consumptive Use of Up to 4.0000 mgd; Approval Date: May 30, 2025.

37. RENEWAL—Seneca Resources Company, LLC; Pad ID: Waskiewicz 445; ABR-20100330.R3; Delmar Township, Tioga County, Pa.; Consumptive Use of Up to 4.0000 mgd; Approval Date: May 30, 2025.

38. RENEWAL—XTO Energy Inc.; Pad ID: MARQUARDT UNIT 8517H; ABR-20100417.R3; Penn Township, Lycoming County, Pa.; Consumptive Use of Up to 4.0000 mgd; Approval Date: May 30, 2025.

Authority: Public Law 91-575, 84 Stat. 1509 et seq., 18 CFR parts 806 and 808.

Dated: June 9, 2025.
Jason E. Oyler,
General Counsel and Secretary to the Commission.

[FR Doc. 2025-10704 Filed 6-11-25; 8:45 am]

BILLING CODE 7040-01-P